NATIONAL SCIENCE FOUNDATION

Special Emphasis Panel in Undergraduate Education; Notice of Meeting

In accordance with the Federal Advisory Committee Act (Pub. L. 92-463, as amended), the National Science Foundation announces the following meeting:

Name: Special Emphasis Panel in Undergraduate Education (1214).

Date and Time: November 30-December 2, 2000; 8 a.m. to 5 p.m.

Place: Radison Hotel, 901 N. Fairfax Street, Alexandria, VA 22314.

Type of Meeting: Closed.

Contact Person: Drs. Elizabeth J. Teles and Gerhard L. Salinger, National Science Foundation, 4201 Wilson Boulevard, Arlington, VA 22230. Telephone: (703) 292-4643/5116.

Purpose of Meeting: To provide advice and recommendations concerning proposals submitted to NSF for financial support.

Agenda: To review and evaluate Advanced Technological Education proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: September 27, 2000.
Karen J. York,
Committee Management Officer.

[FR Doc. 00-25213 Filed 9-29-00; 8:45 am]

BILLING CODE 7555-01-M